DEPARTMENT OF JUSTICE

Antitrust Division

Notice Pursuant to the National Cooperative Research and Production Act of 1993—Telemanagement Forum

Notice is hereby given that, on August 31, 2010, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, Advanced Technology Group, Kansas City, MO; Aito Technologies, Espoo, FINLAND; Alepo USA, Austin, TX; Aria Networks http://www.aria-networks.com, Chippenham, Wiltshire, UNITED KINGDOM; Aspirvia Ltd, Bournemouth, UNITED KINGDOM; Avea, Istanbul, TURKEY; Avvasi Incorporated, Waterloo, Ontario, CANADA; Axiros GmbH, Munich Hoehenkirchen, GERMANY; Azerfon, Baku, AZERBAIJAN; BATMANN Consulting, Centennial, CO; Beijing University of Posts and Telecommunications, Beijing, PEOPLE'S REPUBLIC OF CHINA; Billskill AB, Stockholm, SWEDEN; Bintegra, Hoce, SLOVENIA; Bull Telecom & Media, Les-Clayes-Sous-Bois, FRANCE; Calix, Inc., Petaluma, CA; Cloud.com, Cupertino, CA; Compunet Services, Inc., Stockbridge, GA; Cordys, Putten, THE NETHERLANDS; Cosmo Bulgaria Mobile EAD (Globul), Sofia, BULGARIA; CTBC Multimidia Data Net S/A, Uberlândia, Minas Gerais, BRAZIL; DANTE, Cambridge, UNITED KINGDOM; Dataupia, Cambridge, MA; Defence Science and Technology Laboratory, Salisbury, Wiltshire, UNITED KINGDOM; Detecon International, Bonn, GERMANY; Devoteam Consulting A/S, Danish Telecoms Business Unit, Copenhagen, DENMARK; Eastek Pty Ltd, Melbourne, Victoria, AUSTRALIA; EMBRATEL, Rio de Janeiro, BRAZIL; Engineering IT, Pont St. Martin (AO), ITALY; Eutelsat S.A., Paris, FRANCE; EWE TEL GmbH, Oldenburg, GERMANY; Fenavic Ltd, Yehud, ISRAEL; GICM Associates, Inc, Almaty, KAZAKHSTAN; Globe Telecom Inc., Mandaluyong City, Manila, PHILIPPINES; Gridit, Salo, FINLAND; GridMiddle Ware Spectra, New York, NY; Hansen Corporation Europe, Teddington, Middlesex, UNITED KINGDOM; i2i Bilisim Ve Teknoloji Danismanlik Tic Ltd, Gebze/Kocaeli, TURKEY; Inomial Pty Ltd, Docklands, Victoria, AUSTRALIA; IPDR Technologies, LLC., Golden, CO; iToolsOnline Ltd., Mt Albert, Auckland, NEW ZEALAND; Jamcracker, Inc., Santa Clara, CA; Layer 7 Technologies, Vancouver, British Columbia, CANADA; McShane Consulting, Rolling Meadows, IL; Meteor Mobile Communications, Dublin, IRELAND; MFEC PLC., Bangkok, THAILAND; MHM & Partner AG, Rotkreuz, SWITZERLAND; Mirafor Associates Oy, Helsinki, FINLAND; Nawras, Sultanate of Oman, OMAN; NBNCo Ltd, North Sydney, NSW, AUSTRALIA; Net Evidence (SLM) Ltd, Gomshall, Surrey, UNITED KINGDOM; Nixu Software Oy Ltd., Espoo, FINLAND; Novice Software Solutions, Birhana Road, Kanpur, INDIA; NTC Kft., Budapest, Gombocz Z. u, HUNGARY; OGIS International, Inc., San Mateo, CA; Outbox Sp z.o.o., Warsaw, POLAND; Pacific Broadband Research, Scoresby, Victoria, AUSTRALIA; Parallels, Renton, WA; Parhelion Global Communications Advisors, Amsterdam, THE NETHERLANDS; Pitney Bowes Software Pty Ltd, North Sydney, NSW, AUSTRALIA; Polish Telephones Foundation, Warszawa, POLAND; Prosilient Technologies AB, Stockholm, SWEDEN; Protiviti, Mumbai—400 001, INDIA; PT Global Innovation Technology, Jakarta Selatan, Jakarta, INDONESIA; Rancore Technologies Private Limited, Navi Mumbai, Maharashtra, INDIA; Reach Global Services Limited, Wanchai, HONG KONG—CHINA; RooX LLC, St. Petersburg, RUSSIA; Salesforce.com, San Francisco, CA; Sasktel International, Regina, SK, CANADA; Savvis, Town & Country, MO; ServiceMesh, Inc., Los Angeles, CA; Sonaecom, Lisbon, PORTUGAL; Strategic Consulting Alliance, Amersfoort, THE NETHERLANDS; Superior Consulting Services, Koln, GERMANY; Synaptitude, Vienna, VA; Syntel, Inc., Troy, MI; Tele Greenland, Nuuk, GREENLAND; Telecom ParisTech, Paris, FRANCE; TELEFOCUS SAL, Beirut, LEBANON; Torokina Networks, Artarmon, NSW, AUSTRALIA; Trilogy Software Bolivia, Cochabamba, BOLIVIA; Tvingo Telecom, Vladikavkaz, RUSSIA; University of Texas M.D. Anderson Cancer Center, Houston, TX; VDVL, Rijswijk, THE NETHERLANDS; VenKizmet PERU SAC, Lima, PERU; Vonage, Holmdel, NJ; Worldstream Systems & Services, Port Louis, MAURITIUS; XTRAC, LLC, Boston, MA; Yyield Group BV, Bennebroek, THE NETHERLANDS; ZTEsoft Technology Co., Ltd. Nanjing, Jiangsu, PEOPLE'S REPUBLIC OF CHINA, have been added as parties to this venture.

Also, Acando AS, Trondheim, NORWAY; AINMT Sverige AB, Taby, Stockholm, SWEDEN; AKT Solutions Ltd., South Croydon, UNITED KINGDOM; Austar Entertainment, Ultimo, NSW, AUSTRALIA; AutoMagic KB LLC, Denver, CO; Averox plc, Uxbridge, Middlesex, UNITED KINGDOM; BEE MediaSoft Limited, HONG KONG-CHINA; Bharti Airtel Ltd, Gurgaon, Haryana, INDIA; BNM Incorporated, Indialantic, FL; Bridgewater Systems Corporation, Ottawa, Ontario, CANADA; Business Connexion (Pty) Ltd., Gauteng, SOUTH AFRICA; cablecom GmbH, Zurich, SWITZERLAND; CANTV, Negocios de Cantv, Edificio Cortijos 1, VENEZUELA; Column Technologies, Downers Grove, IL; CSN Technology Pty Ltd, Eveleigh, NSW, AUSTRALIA; D&A International Limited, Bad Homburg, Hessen, GERMANY; Directorate for Emergency Communication, Oslo, NORWAY; dnp services, Frankfurt, Hesse, GERMANY; Dublin City University, Dublin, IRELAND; eBIZ mobility, Bet Shemesh, ISRAEL; ECtel, Rosh Ha'ayin, ISRAEL; Elisa Corporation, FIN, FINLAND; EMGS Group, Riyadh, SAUDI ARABIA; Empresa De Telecommunicaciones De Bogota S.A.E.S.P, Bogota, COLOMBIA; e-Stratega S.R.L., Olivos, Buenos Aires, ARGENTINA; Ethiopian Telecommunications Corporation, Addis Ababa, ETHIOPIA; FSUE LONIIS, St. Petersburg, RUSSIA; FTS, Herzliya, ISRAEL; Fundação Para Inovações Technológicas—FITec, Recife, PE, BRAZIL; General Post and Telecommunication Company, London, UNITED KINGDOM; GLOCOMP SYSTEMS (M) SDN. BHD., Petaling Jaya, Selangor, MALAYSIA; HIKESIYA Co., Ltd., Yokohama-city, Kanagawa, JAPAN; Hollywood Mobile, Hollywood, CA; ICCE Systems, Cary, NC; Inswitch Solutions, Miami, FL; Integra Consultores C.A., Caracas, Estado Miranda, VENEZUELA; Inteligentis Limited, Maidenhead, Berkshire, UNITED KINGDOM; Intelliden, Inc, Colorado Springs, CO; Ipko Telecommunications LLC, Pristina, Kosovo, SLOVENIA; LIBERTY CABLEVISION OF PUERTO RICO, Luquillo, PUERTO RICO; Liberty Global Inc., Englewood, CO; Libya for Telecom and Technology, Tripoli, LIBYA; Macquarie Telecom, Pty. Ltd., Sydney, NSW, AUSTRALIA; Metrotek, Moscow, RUSSIA; MFlory & Associates, Inc., Barnegat, NJ; Mission Critical, Braine-l'Alleud, BELGIUM; Mobile TeleSystems OJSC, Moscow, RUSSIA; MTS-Ukraine (UMC), Kiev, UKRAINE; Network Management, Beijng, PEOPLE'S REPUBLIC OF CHINA; NetXForge, Amsterdam, THE NETHERLANDS; Nihon Unisys, Ltd., Tokyo, JAPAN; Nomos Software, Cork, IRELAND; Nortel, Ottawa, Ontario, CANADA; Oblicore, Inc., Columbia, MD; Omnix Software ltd, Bristol, UNITED KINGDOM; one2tribe Sp. z o.o., Michalowice, POLAND; OSS Observer, Durham, NH; Pannon GSM, Budaörs, HUNGARY; Platinion GmbH, Koln, GERMANY; Prio, Inc., Overland Park, KS; Process Management Consulting GmbH, Muenchen, GERMANY; QinetiQ, Farnborough, Hampshire, UNITED KINGDOM; Revenue Assurance Consulting, Borehamwood, Herts, UNITED KINGDOM; RiverMuse, London, UNITED KINGDOM; RRD SRL—Reti Radiotelevisive Digitali Srl, Milano, MI, ITALY; Scartel Star Lab Ltd., St. Petersburg, RUSSIA; SciSys UK Ltd., Chippenham, UNITED KINGDOM; Sentech, Gauteng, SOUTH AFRICA; Serima Consulting sp. z o. o., Gliwice, POLAND; SERVA Software Inc., Wichita Falls, TX; SigmaTao Factory, S.A. de C.V., Queretaro, MEXICO; SL Corporation, Corte Madera, CA; Soapstone Networks, Billerica, MA; Softline, Kiev, UKRAINE; Software AG, Fairfax, VA; Starhub Ltd, Singapore, SINGAPORE; Sun Microsystems, Menlo Park, CA; Sunrise, Zurich, SWITZERLAND; Switchlab, London, UNITED KINGDOM; Sybase SA, Johannesburg, Rivonia, SOUTH AFRICA; TCB Ventures Ltd, Bristol, UNITED KINGDOM; TeamQuest Corporation, Clear Lake, IA; Tejas Networks Ltd, Bangalore, INDIA; Teleconex Comércio e serviços em Telecommunicações Ltda ME, Campinas, São Paulo, BRAZIL; The Business Realignment Company Ltd., Reading, Berks, UNITED KINGDOM; TierOne OSS Technologies Inc., Mississauga, Ontario, CANADA; Toshiba Solutions Corporation, Minato-Ku, Tokyo, JAPAN; TRA, Manama, BAHRAIN; U Mobile Sdn Bhd, Kuala Lumpur, MALAYSIA; UBIqube Solutions, Grenoble, FRANCE; University of Otago, Dunedin, Otago, NEW ZEALAND; University of Strathclyde, Glasgow, Scotland, UNITED KINGDOM; UPC Broadband Operations b.v., Schiphol Rijk, THE NETHERLANDS; UTStarcom, Inc, Alameda, CA; Virtusa Corporation, Westborough, MA; Vitria Technology, Inc., Sunnyvale, CA; Vivo, SA, Sao Pãolo, BRAZIL; VTR GlobalCom, Santiago, RM, CHILE; and ZINC Solutions Inc, Montreal, Quebec, CANADA, have withdrawn as parties to this venture.

The following members have changed their names: TM International Berhad (TMI) to Axiata Group Berhad, Kuala Lumpur, MALAYSIA; usha communications technology to Bonsai Network India Pvt Ltd, West Bengal, INDIA; Access Commerce to Cameleon Software, Skokie, IL; VMOps Inc. to Cloud.com, Cupertino, CA; Globul to Cosmo Bulgaria Mobile EAD(GloBul), Sofia, BULGARIA; CTBC to CTBC Multimidia Data Net S/A minas, Gerais, BRAZIL; Devoteam Consulting A/S to Devoteam Consulting A/S Danish Telecoms Business Unit, Copenhagen, DENMARK; DU to EITC (DU), Dubai, UNITED ARAB EMIRATES; Engineering to Engineering IT, Pont St. Martin, ITALY; Eutelsat to Eutelsat S.A., Paris, FRANCE; GISDATA GROUP to GDI Systems, Inc., Zagreb, CROATIA; Globe Telecom to Globe Telecom Inc., Manila, PHILIPPINES; Hansen Technologies to Hansen Corporation Europe, Middlesex, UNITED KINGDOM; Independent Technology Systems Limited (INTEC) to INTEC Telecom Systems, Surrey, UNITED KINGDOM; Independent consultant to IPDR Technologies, LLC., Golden, CO; Jamcracker to Jamcracker, Inc., Santa Clara, CA; Kara Consulting, ICT Solutions to KARA DANISMANLIK YAZILIM Ve BILISIM TICARET LTD. STI, Istanbul, TURKEY; ClassTel to KlassTel, Moscow, RUSSIA; Moov Benin to Moov Benin SA, Cotonou, COTE D'IVOIRE; MTN Network Solutions (Pty) Limited to MTN Business Solutions (Pty) Limited, Fairland, SOUTH AFRICA; Nixu to Nixu Software Oy Ltd., Espoo, FINLAND; OGIS International to OGIS International, Inc., San Mateo, CA; PacketFront to PacketFront Systems AB, Kista, SWEDEN; Pitney Bowes Business Insight to Pitney Bowes Software Pty Ltd, North Sydney, AUSTRALIA; PromonLogicalis Tecnologia SA to PromonLogicalis Tecnologia E Participacoes Ltda., Sao Pãulo, BRAZIL; Saudi Telecom to Saudi Telecom Company, Riyadh, SAUDI ARABIA; ServiceMesh to ServiceMesh, Inc., Los Angeles, CA; Kvazar-Micro Corporation BV to Sitronics IT, Amsterdam, THE NETHERLANDS; SPATIALinfo to SpatiaIinfo, Inc., Englewood, CO; Specinova Sistemi d.o.o. to Specinova Systems Ltd., Ljubljana, SLOVENIA; Synaptitude Consulting to Synaptitude, Vienna, VA; Tecnotree Convergence Limited to Tecnotree, New Delhi, INDIA; tekten.pl to Tekten Sp. z.o.o.o., Warsaw, POLAND; mobilkom austria group services GmbH to Telekom Austria AG, Wien, AUSTRIA; TMNG to TMNG Global, Overland Park, KS; NZ Communications Ltd. to Two Degrees Mobile Ltd, Auckland, NEW ZEALAND; Telexpertise DeMexico S.A. DE C.V.—TXM to TXM Global Services S.A. de C.V., Saltillo, MEXICO; Ventelo Bedrift AS to Ventelo Networks AS, Oslo, NORWAY; and Network Cadence to Verecloud, Englewood, CO.

In addition, the following parties have changed their locations: Etisalat Nigeria to Banana Island, Ikoyi, Lagos, NIGERIA; Bright Consulting to Sofia, BULGARIA; KARA DANISMANLIK YAZILIM Ve BILISIM TICARET LTD. STI to Istanbul, TURKEY; The CNIA Group to Westfield, NJ; Interfacing Technologies Corp. to Montreal, Quebec, CANADA; OMANTEL to Ruwi, Muscat, OMAN; MTN Cameroon to Douala, Littoral Region, CAMEROON; Rate Integration, Inc. to Durham, NC; IBB Consulting Group to Philadelphia, PA; Datanomic Limited to Cambridge, UNITED KINGDOM; Atos Origin to Zurich, SWITZERLAND; GlobeTOM to HIGHVELD, Centurion, SOUTH AFRICA; Tech Mahindra Ltd to Andheri East, Mumbai, INDIA; ZTE Corporation to Shenzhen, Guangdong, PEOPLE'S REPUBLIC OF CHINA; TMNG Global to Overland Park, KS; Level 3 Communications to Broomfield, CO; Belgacom, S.A. to Brussels, BELGIUM; Aviat Networks to Morrisville, NC; and Logica to Green Park, Reading, UNITED KINGDOM.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on February 1, 2010. A notice was published in the Federal Register pursuant to Section 6(b) of the Act on March 11, 2010 (75 FR 11564).

Patricia A. Brink,
Deputy Director of Operations, Antitrust Division.

[FR Doc. 2010-26719 Filed 10-21-10; 8:45 am]

BILLING CODE P